ENVIRONMENTAL PROTECTION AGENCY

Safe Drinking Water Act Sole Source Aquifer Program; Designation of Bainbridge Island, Washington as a Sole Source Aquifer

AGENCY: Environmental Protection Agency (EPA).

ACTION: Final determination.

SUMMARY: Notice is hereby given that pursuant to Section 1424(e) of the Safe Drinking Water Act, the Administrator of the U.S. Environmental Protection Agency (EPA) has determined that the Bainbridge Island Aquifer System located in Kitsap County, Washington is the sole or principle source of drinking water for the citizens of Bainbridge Island and that this aquifer system, if contaminated would create a significant hazard to public health. As a result of this action, all Federal financially assisted projects constructed on Bainbridge Island will be subject to EPA review to ensure that these projects are designed and constructed so they do not create a significant hazard to public health.

DATES: This determination shall be effective on March 29, 2013.

ADDRESSES: All documents relating to this determination are available for inspection by the public during normal business hours at the U.S. EPA Library, Region 10, 1200 Sixth Avenue, Seattle, Washington 98101 between the hours of 9:00 a.m.-12:00 p.m. and 1:00-4:00 p.m. and at the Bainbridge Island library at 1270 Madison Avenue North, Bainbridge Island.

FOR FURTHER INFORMATION CONTACT: Susan Eastman, EPA Region 10, Drinking Water Unit, by mail at the Seattle address given above, by telephone at (206) 553-6249, or by email at Eastman.susan@epa.gov.

SUPPLEMENTARY INFORMATION:

I. Background

Section 1424(e) of the Safe Drinking Water Act (42 U.S.C. 300h3(e), Public Law 93-523 of December 16, 1974) states:

If the Administrator determines, on his own initiative or upon petition, that an area has an aquifer which is the sole or principal drinking water source for the area and which, if contaminated, could create a significant hazard to public health, he shall publish a notice of the determination in the Federal Register. After the publication of any such notice, no commitment for Federal financial assistance (through a grant, contract, loan guarantee, or otherwise) may be entered into for any project which the Administrator determines may contaminate such aquifer through a recharge zone so as to create a significant hazard to public health, but a commitment for Federal financial assistance may, if authorized under another provision of law, be entered into to plan or design the project to assure that it will not so contaminate the aquifer.

On August 5, 2009, EPA received a petition from two citizens of Bainbridge Island requesting designation of the Bainbridge Island Aquifer System as a Sole Source Aquifer (SSA). On April 20, 2012, EPA published a notice in the Bainbridge Islander newspaper and mailed fact sheets to island residents which served to announce the public comment period. The public was permitted to submit comments and information on the petition from April 20 through June 4, 2012. Public comments received by EPA were generally in support of the designation.

II. Basis for Determination

EPA defines a sole or principle source aquifer as an aquifer or aquifer system which supplies at least 50 percent of the drinking water consumed in the area overlying the aquifer, and for which there is no alternative source or combination of alternative drinking water sources which could physically, legally and economically supply those dependent upon the aquifer (U.S. EPA, 1987, Sole Source Aquifer Designation Decision Process, Petition Review Guidance).

Among the factors considered by the Regional Administrator in connection with the designation of an area under Section 1424(e) are: (1) Whether the Bainbridge Island Aquifer System is the area's sole or principal source of drinking water and (2) whether contamination of the aquifer system would create a significant hazard to public health. On the basis of technical information available to the EPA, the Regional Administrator has made the following findings in favor of designating the Bainbridge Island Aquifer System a SSA:

1. The Bainbridge Island Aquifer System currently serves more than 23,000 residents of Bainbridge Island. One hundred percent of the current population obtains their drinking water from the petitioned aquifer system either from individual wells or from one of the more than 150 water systems on the island.

2. There is no existing alternative drinking water source or combination of sources which supply drinking water to the designated area, nor is there any available cost effective future source capable of supplying the drinking water demands for the population served by the aquifer service area. No potential surface water bodies exist to provide a source of drinking water, piping water from the Kitsap Peninsula across Agate Pass Bridge to Bainbridge Island is cost-prohibitive and installation of a desalination plant is too costly.

3. Since groundwater contamination can be difficult or sometimes impossible to reverse and since the Bainbridge community relies on the Bainbridge Aquifer System for drinking water purposes, contamination of the aquifer system would pose a significant public health hazard.

The legal and technical basis for the proposal was outlined in an EPA publication titled: “Support Document for Sole Source Aquifer Designation of the Bainbridge Island Aquifer System”.

III. Description of the Bainbridge Island Aquifer System

The petitioned area includes all of Bainbridge Island. The island is a mix of developed land and forests. Six principal aquifers make up the Bainbridge Island Aquifer System. On island precipitation recharges the aquifers and is the only source of recharge for lakes, ponds, and streams. The island has a total of 53 miles of seawater shoreline and the aquifer area is bounded on all sides by Puget Sound. Interior plateaus reach maximum elevations of 300 to 400 feet above mean sea level. The island can be divided into 12 drainage basins. Large volumes of unconsolidated glacial and interglacial materials from at least six advances and retreats of Pleistocene continental glaciers over the last 300,000 years has shaped the present-day landscape and underlying hydrostratigraphy of the island and are host to the aquifers on Bainbridge Island. The aquifer system is vulnerable to contamination from potential seawater intrusion, accidental spills, petroleum projects, small hazardous waste generators, household hazardous waste disposal, leachate from the closed island landfill, leachate from the Wyckoff Superfund site in Eagle Harbor, failing septic systems, fertilizers, pesticides and herbicides and improperly abandoned wells. Bainbridge Island's hydrogeologic characteristics are similar to the following Puget Sound islands whose aquifers have already been designated as SSA's by EPA: Camano, Whidbey, Marrowstone, Guemes and Vashon-Maury. Please see the Support Document for a more detailed hydrogeologic description.

IV. Information Utilized in Determination

The information utilized in this determination include the petition; U.S. Geological Survey, 2011, Conceptual Model and Numerical Simulation of the Groundwater-Flow system of Bainbridge Island, Washington, Scientific Investigations Report 2011-5021, 96 pages; Washington Department of Ecology, 2011a, Confirmed and Suspected Contaminated Sites List, Bainbridge Island City Strawberry Plant Site, August 16; EPA guidance documents and the City of Bainbridge Water Resource Study (2000). For a complete list of references used by the petitioner see the Support Document.

V. Project Review

Publication of this determination requires that EPA review proposed projects with Federal financial assistance in order to ensure that such projects do not have the potential to contaminate the Bainbridge Island SSA so as to create a significant hazard to public health. Proposed projects that are funded entirely by state, local, or private concerns are not subject to SSA review by EPA. EPA does not review all possible Federal financially-assisted projects but tries to focus on those projects which pose the greatest risk to public health. Memorandums of Understanding between EPA and various Federal funding agencies help identify, coordinate and evaluate projects.

VI. Summary

Today's action affects the Bainbridge Island Aquifer System located on Bainbridge Island, Kitsap County, Washington. Projects with federal financial assistance proposed within the Bainbridge Island Aquifer System will be reviewed to ensure that their activities will not endanger public health through contamination of the aquifer. A public notice regarding the SSA designation request was published in the Bainbridge Islander newspaper on April 20, 2012. Seven comments were received all in general support of the designation of the Bainbridge Island Aquifer System.

Authority: Section 1424(e) of the Safe Drinking Water Act (42 U.S.C. 300h3(e), Pub. L. 93-523 of December 16, 1974

Dated: March 21, 2013.
Rick Albright,
Acting Regional Administrator.

[FR Doc. 2013-07409 Filed 3-28-13; 8:45 am]

BILLING CODE 6560-50-P